ENVIRONMENTAL PROTECTION AGENCY

[FRL-7230-4]

EPA Science Advisory Board; Request for Comments and Notification of Public Advisory Committee Teleconference Meeting

SUMMARY: The Office of the EPA Science Advisory Board (SAB, the Board) is requesting public comment both on a draft document related to SAB Policies and Procedures for obtaining public input to be used in panel formation and on the need for additional documents on policies and procedures.

Also, pursuant to the Federal Advisory Committee Act, Public Law 92-463, notice is hereby given that the Policies and Procedures Subcommittee (PPS or the Subcommittee) of the SAB, a chartered Federal advisory committee, is announcing that it will meet in a public teleconference on July 8, 2002 from 10 a.m. to 12 p.m. Eastern Time. The meeting will be hosted out of Conference Room 6013, US EPA, Ariel Rios Federal Building, 1200 Pennsylvania Avenue, NW., Washington, DC 20004. The meeting is open to the public, however, due to limited space, seating will be on a first-come basis. For further information concerning the meeting or how to obtain the phone number, please contact the individual listed below.

Request for Comment—The Office of the EPA Science Advisory Board Staff is requesting comment on a short booklet, entitled Overview of the SAB Panel Formation Process (this is Appendix A to the report found at: http://www.epa.gov/sab/ecm02003.pdf)

The booklet describes a new four-stage process that developed so that the SAB may benefit from public input on panel formation and so the process of recruiting and selecting panel members is clearer to the public. The intended audience includes SAB Members and Consultants, the public, and EPA staff. The SAB Staff invites public comment on: (1) Whether the document describes the new processes clearly so that the public can understand and participate in the process; and (2) other ways to strengthen the Board's operations, including panel formation.

The SAB Staff may develop booklets describing its policies and procedures for project selection panel deliberations; report writing; the roles of the Executive Committee, SAB Standing Committees, and panels; the role of the SAB Staff; and communication. The SAB Staff invites public comment on whether booklets describing policies and procedures for these areas, or other areas, are of interest to members of the public.

Please send any public comments to Dr. Angela Nugent of the EPA Science Advisory Board staff by June 21, 2002. Comments are preferred via email. Please see contact information below.

Notification of Teleconference and Purpose of the Teleconference—At the planned teleconference, the PPS will discuss their plans to develop advice for the SAB Staff on the development of new guidance for policies and procedures for the Board.

FOR FURTHER INFORMATION CONTACT: Members of the public desiring additional information about the Teleconference meeting must contact Dr. Angela Nugent, Designated Federal Officer, EPA Science Advisory Board (1400A), Suite 6450, U.S. EPA, 1200 Pennsylvania Avenue, NW, Washington, DC 20460; telephone/voice mail at (202) 564-4562; fax at (202) 501-0323; or via e-mail at nugent.angela@epa.gov.

Members of the public desiring additional information about the meeting location or the call-in number, must contact Ms. Betty Fortune, Management Assistant, EPA Science Advisory Board (1400A), Suite 6450, U.S. EPA, 1200 Pennsylvania Avenue, NW, Washington, DC 20460; telephone/voice mail at (202) 564-4534; fax at (202) 501-0323; or via e-mail at fortune.betty@epa.gov.

A copy of the draft agenda will be posted on the SAB Website (www.epa.gov/sab) (under the AGENDAS subheading) approximately 12 days before the meeting.

Oral Comments—The SAB will have a brief period (no more than 15 minutes) available during the Teleconference meeting for applicable public comment. Members of the public who wish to make a brief oral presentation must contact Dr. Nugent in writing (by letter, fax, or e-mail—see previously stated information) no later than 12 noon Eastern Time, June 28, in order to be included on the Agenda. The oral public comment period will be limited to 15 minutes divided among the speakers who register. Registration is on a first come basis, allowing approximately three to five minutes per speaker or organization. Speakers who are unable to register in time, may provide their comments in writing.

Providing Oral or Written Comments at SAB Meetings

It is the policy of the EPA Science Advisory Board to accept written public comments of any length, and to accommodate oral public comments whenever possible. The EPA Science Advisory Board expects that public statements presented at its meetings will not be repetitive of previously submitted oral or written statements.

Oral Comments: In general, for conference call meetings, opportunities for oral comment will usually be limited to no more than three minutes per speaker and no more than fifteen minutes total, unless otherwise stated. Deadlines for getting on the public speaker list for a meeting are given above. Speakers should bring at least 35 copies of their comments and presentation slides for distribution to the reviewers and public at face-to-face meetings.

Written Comments: Although the SAB accepts written comments until two days following the date of the meeting (unless otherwise stated above), written comments should be received in the SAB Staff Office at least one week prior to the meeting date so that the comments may be made available to the committee for their consideration. Comments should be supplied to the appropriate DFO at the address/contact information noted above in the following formats: one hard copy with original signature, and one electronic copy via e-mail (acceptable file formats: Adobe Acrobat (*.PDF), WordPerfect, Word, or Rich Text files (in IBM-PC/Windows 95/98 format). Those providing written comments and who attend the meeting are also asked to bring 35 copies of their comments for public distribution.

General Information—Additional information concerning the EPA Science Advisory Board, its structure, function, and composition, may be found on our Website (http://www.epa.gov/sab) and in the EPA Science Advisory Board FY2001 Annual Staff Report—Expanding Expertise and Experience which is available from the SAB Publications Staff at (202) 564-4533 or via fax at (202) 501-0256. Committee rosters, draft Agendas and meeting calendars are also located on our website.

Meeting Access—Individuals requiring special accommodation at this meeting, including wheelchair access to the conference room, should contact Dr. Nugent at least five business days prior to the meeting so that appropriate arrangements can be made.

Dated: June 5, 2002.
Robert Flaak,
Acting Deputy Staff Director, EPA Science Advisory Board.

[FR Doc. 02-14767 Filed 6-11-02; 8:45 am]

BILLING CODE 6560-50-P